DEPARTMENT OF HOMELAND SECURITY

Coast Guard

33 CFR Part 165

[Docket No. USCG-2022-0244]

Safety Zones; Recurring Events in Captain of the Port Duluth—LaPointe Fireworks

AGENCY: Coast Guard, Department of Homeland Security (DHS).

ACTION: Notification of enforcement of regulation.

SUMMARY: The Coast Guard will enforce the safety zone for the LaPointe Fireworks in the waters of Lake Superior in LaPointe, WI, on July 4, 2022. This action is necessary to protect participants and spectators during the LaPointe Fireworks. During the enforcement period, entry into, transiting, or anchoring within the safety zone is prohibited unless authorized by the Captain of the Port Duluth or designated on-scene representative.

DATES: The regulations in 33 CFR 165.943 will be enforced for the LaPointe Fireworks safety zone listed in item 6 in the table to § 165.943 from 9 p.m. through 11 p.m. on July 4, 2022.

FOR FURTHER INFORMATION CONTACT: If you have questions on this notification of enforcement, call or email LTJG Joe McGinnis, MSU Duluth, Waterways Management Branch, U.S. Coast Guard; telephone 218-725-3823, email DuluthWWM@uscg.mil.

SUPPLEMENTARY INFORMATION: The Coast Guard will enforce the safety zone for the annual LaPointe Fireworks in item 6 in the table to 33 CFR 165.943 from 9 p.m. through 11 p.m. on July 4, 2022. This action is being taken to provide for the safety of life on navigable waterways during this event. Our regulation for marine events within the Ninth Coast Guard District, § 165.943, specifies the location of the safety zone for the LaPointe Fireworks, which encompasses all waters of Lake Superior in LaPointe, WI, within the arc of a circle with a 350-foot radius from the fireworks launch site with its center in position 46°46′40″ N, 090°47′22″ W. During the enforcement periods, as reflected in § 165.943(c), if you are the operator of a vessel in the safety zone, you must comply with directions from the Captain of the Port Duluth, or her on-scene representative.

Entry into, transiting, or anchoring within the safety zone is prohibited unless authorized by the Captain of the Port Duluth or their designated on-scene representative. The Captain of the Port's designated on-scene representative may be contacted via VHF Channel 16. In addition to this notification of enforcement in the Federal Register, the Coast Guard plans to provide notification of this enforcement period via a Broadcast Notice to Mariners.

Dated: April 26, 2022.
F.M. Smith,
Commander, U.S. Coast Guard, Captain of the Port Duluth.

[FR Doc. 2022-10005 Filed 5-9-22; 8:45 am]

BILLING CODE 9110-04-P